FEDERAL DEPOSIT INSURANCE CORPORATION

Notice of Termination; 10159 Valley Capital Bank, N.A., Mesa, Arizona

The Federal Deposit Insurance Corporation (FDIC), as Receiver for 10159 Valley Capital Bank, N.A., Mesa, Arizona (Receiver) has been authorized to take all actions necessary to terminate the receivership estate of Valley Capital Bank, N.A. (Receivership Estate); the Receiver has made all dividend distributions required by law.

The Receiver has further irrevocably authorized and appointed FDIC-Corporate as its attorney-in-fact to execute and file any and all documents that may be required to be executed by the Receiver which FDIC-Corporate, in its sole discretion, deems necessary; including but not limited to releases, discharges, satisfactions, endorsements, assignments and deeds.

Effective October 1, 2016, the Receivership Estate has been terminated, the Receiver discharged, and the Receivership Estate has ceased to exist as a legal entity.

Federal Deposit Insurance Corporation.
Robert E. Feldman,
Executive Secretary.

[FR Doc. 2016-24433 Filed 10-7-16; 8:45 am]

BILLING CODE 6714-01-P